DEPARTMENT OF AGRICULTURE

Rural Business-Cooperative Service

[Docket #: RBS-24-CO-OP-0018]

60-Day Notice of Proposed Information Collection: Rural Development Cooperative Agreements (RDCA) Program; OMB Control No.: 0570-0074

AGENCY: Rural Business-Cooperative Service, USDA.

ACTION: Notice; request for comments.

SUMMARY: In accordance with the Paperwork Reduction Act of 1995 the Rural Business-Cooperative Service (RBCS or Agency), an agency within the United States Department of Agriculture (USDA), Rural Development (RD), announces its intention to request a revision to a currently approved information collection package for Rural Development Cooperative Agreements (RDCA) Program. The Agency invites comments on this information collection for which it intends to request approval from the Office of Management and Budget (OMB).

DATES: Comments on this notice must be received by February 18, 2025 to be assured of consideration.

ADDRESSES: Comments may be submitted electronically through the Federal eRulemaking Portal, regulations.gov. In the “Search for dockets and documents on agency actions” box, enter the docket number “RBS-24-CO-OP-0018,” and click the “Search” button. From the search results: click on or locate the document title: “60-Day Notice of Proposed Information Collection: “Rural Development Cooperative Agreements (RDCA) Program” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.” Information on using Regulations.gov, including instructions for accessing documents, submitting comments, and viewing the docket after the close of the comment period, is available through the site's “FAQ” link.

All comments will be available for public inspection online at the Federal eRulemaking Portal (https://www.regulations.gov).

FOR FURTHER INFORMATION CONTACT: MaryPat Daskal, Rural Development Innovation Center-Regulations Management Division, USDA, 1400 Independence Avenue SW, Room 4227, South Building, Washington, DC 20250-1522. Telephone: (202) 720-7853. Email: MaryPat.Daskal@usda.gov.

SUPPLEMENTARY INFORMATION: The OMB regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for a revision.

Title: Rural Development Cooperative Agreements (RDCA) Program.

OMB Control Number: 0570-0074.

Expiration Date of Approval: May 31, 2025.

Type of Request: Revision of a currently approved collection.

Estimate of Burden: Public reporting burden for this collection of information is estimated to average 1.65 hours per response.

Respondents: Regional consortia of higher education, academic health and research institutes, or economic development entities.

Estimated Number of Respondents: 64.

Estimated Number of Responses per Respondent: 1.

Estimated Total Number of Responses: 640.

Estimated Total Annual Burden on Respondents: 1,056 hours.

Abstract: Pursuant to the Federal Agricultural Improvement Act of 1996 (Pub. L. 104-127), the U.S. Department of Agriculture (USDA) received authorization from Congress under 7 U.S.C. 2204b(b)(4) to enter into cooperative agreements for the purpose of improving the coordination and effectiveness of programs that benefit rural areas. This authority is referred to as the Rural Development Cooperative Agreement (RDCA) program. There are three agencies within USDA that administer programs that specifically target rural areas: The Rural Business-Cooperative Service (RB-CS), the Rural Housing Service (RHS), and the Rural Utilities Service (RUS).

Each year, USDA receives proposals from the public that are not in response to a specific program announcement. These proposals are called unsolicited proposals. If a proposal is related to one or more programs, it will be routed to the appropriated RD agency for review and possible consideration for a cooperative agreement using the RDCA authority. If the proposal is unique or innovative, then RD has authority to enter into a cooperative agreement without competition (see 2 CFR 415.1(d)(6)). Alternatively, USDA may issue an invitation to submit applications for a cooperative agreement using the RDCA authority. These proposals are called solicited proposals. Solicited proposals would typically be announced via a Federal Register Notice.

Information will be collected by the field offices from applicants. The collection of information is considered the minimum necessary to effectively evaluate the overall scope of the project.

Failure to collect information could have an adverse impact on effectively carrying out the mission, administration, processing, and program requirements.

Comments are invited on:

(a) Whether the proposed collection of information is necessary for the proper performance of the functions of the Agency, including whether the information will have practical utility.

(b) The accuracy of the Agency's estimate of the burden of the proposed collection of information including the validity of the methodology and assumptions used.

(c) Ways to enhance the quality, utility, and clarity of the information to be collected; and

(d) Ways to minimize the burden of the collection of information on respondents, including through the use of appropriate automated, electronic, mechanical, or other technological collection techniques or other forms of information technology. All responses to this notice will be summarized and included in the request for OMB approval. All comments will become a matter of public record.

Copies of this information collection can be obtained from Lisa Day, Innovation Center—Regulations Management Division, at (971) 313.4750. Email: Lisa.Day@USDA.GOV.

All responses to this notice will be summarized and included in the request for OMB approval. All comments will also become a matter of public record.

Jacqueline Ponti-Lazaruk,
Chief Innovation Officer, Innovation Center, USDA Rural Development.

[FR Doc. 2024-30210 Filed 12-18-24; 8:45 am]

BILLING CODE 3410-XY-P